DEPARTMENT OF ENERGY

Federal Energy Regulatory Commission

[Docket No. EL04-138-000]

PJM Interconnection, L.L.C., American Electric Power Service Corporation; Notice of Initation of Investigation and Refund Effective Date

September 30, 2004.

On September 28, 2004, the Commission issued an order in the above-referenced proceeding initiating an investigation under section 206 of the Federal Power Act to examine the just and reasonableness of American Electric Power Service Corporation's hold harmless payments.

The Commission's September 28, 2004 Order established the refund effective date as 60 days from the issuance date of the Order.

Magalie R. Salas,
Secretary.

[FR Doc. E4-2502 Filed 10-5-04; 8:45 am]

BILLING CODE 6717-01-P